INTERNATIONAL TRADE COMMISSION

[Investigation. No. 337-TA-1304]

Certain Wet Dry Surface Cleaning Devices; Notice of Institution of Investigation

AGENCY: U.S. International Trade Commission.

ACTION: Notice.

SUMMARY: Notice is hereby given that a complaint was filed with the U.S. International Trade Commission on February 2, 2022, under section 337 of the Tariff Act of 1930, as amended, on behalf of Bissell Inc. of Grand Rapids, Michigan and Bissell Homecare, Inc. of Grand Rapids, Michigan. Letters supplementing the complaint were filed on February 4, 2022, and February 22, 2022. The complaint, as supplemented, alleges violations of section 337 based upon the importation into the United States, the sale for importation, and the sale within the United States after importation of certain wet dry surface cleaning devices by reason of infringement of certain claims of U.S. Patent No. 11,076,735 (“the '735 patent’ ”); U.S. Patent No. 11,071,428 (“the '428 patent”); U.S. Patent No. 11,122,949 (“the '949 patent”); U.S. Patent No. 11,096,541 (“the '541 patent”); and U.S. Patent No. 10,820,769 (“the '769 patent”). The complaint further alleges that an industry in the United States exists as required by the applicable Federal Statute. The complainants request that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Jessica Mullan, Office of Docket Services, U.S. International Trade Commission, telephone (202) 205-1802.

SUPPLEMENTARY INFORMATION: Authority: The authority for institution of this investigation is contained in section 337 of the Tariff Act of 1930, as amended, 19 U.S.C. 1337, and in section 210.10 of the Commission's Rules of Practice and Procedure, 19 CFR 210.10 (2021).

Scope of Investigation: Having considered the complaint, the U.S. International Trade Commission, on March 3, 2022, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-3, 5, 6, 11, and 13-18 of the '735 patent; claims 1, 2, 5, 10-13, and 15 of the '428 patent; claims 1, 2, 5-7, 11, 14, 15, and 17-20 of the '949 patent; claims 1, 2, 4, 5, 9, 12, 13, 15, 16, and 20 of the '541 patent; and claims 1, 4-7, 10, and 13-16 of the '769 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “Tineco's wet dry surface cleaning devices”;

(3) For the purpose of the investigation so instituted, the following are hereby named as parties upon which this notice of investigation shall be served:

(a) The complainants are:

Bissell Inc., 2345 Walker Avenue NW, Grand Rapids, MI 49544.

Bissell Homecare, Inc., 2345 Walker Avenue NW, Grand Rapids, MI 49544.

(b) The respondents are the following entities alleged to be in violation of section 337, and are the parties upon which the complaint is to be served:

Tineco Intelligent Technology Co., Ltd., 108 Shihu West Road, Wuzhong District, Suzhou City, China, 215168.

TEK (Hong Kong) Science & Technology Ltd., Room 1202 Capitol Centre, 5-19 Jardine's Bazaar, Causeway Bay, CN-999077 Hong Kong.

Tineco Intelligent, Inc., 1700 Westlake Ave N, Seattle, WA 98109.

(4) For the investigation so instituted, the Chief Administrative Law Judge, U.S. International Trade Commission, shall designate the presiding Administrative Law Judge.

The Office of Unfair Import Investigations will not be named as a party to this investigation.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: March 3, 2022.
Lisa Barton,
Secretary to the Commission.

[FR Doc. 2022-04933 Filed 3-8-22; 8:45 am]

BILLING CODE 7020-02-P